DEPARTMENT OF JUSTICE

Office of Justice Programs

Agency Information Collection Activities: Proposed Collection; Comment Request

ACTION: Notice of Information Collection Under Review: New Collection: Deaths In Custody, 2000—Report on Inmates Under Jail Jurisdiction/Inmates in Private and Multi-Jurisdictional Jails.

The Department of Justice, Office of Justice Programs, has submitted the following information collection request to the Office of Management and Budget for review and clearance in accordance with the Paperwork Reduction Act of 1995. This proposed information collection is published to obtain comments from the public and affected agencies. Comments are encouraged and will be accepted until December 18, 2000.

Request written comments and suggestions from the public and affected agencies concerning the proposed collection of information. Your comments should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

If you have additional comments, suggestions, or additional information, especially regarding the estimated public burden and associated response time, please write to Dr. Jan M. Chaiken, Director, Bureau of Justice Statistics, 810 Seventh St. NW., Washington, DC 20531. If you need a copy of the collection instruments with instructions, or have additional information, please contact Christopher Mumola at (202) 307-5995, or via facsimile at 202-514-1757.

Overview of this information collection:

(1) Type of information collection. New Collection.

(2) The title of the Form/Collection: Deaths in Custody, 2000—Report on Inmates Under Jail Jurisdiction/Inmates in Private and Multi-Jurisdictional Jails.

(3) The agency form number and the applicable component of the Department sponsoring the collection. Forms: CJ-9 and CJ-9A. Corrections Statistics Unit, Bureau of Justice Statistics, Office of Justice Programs, United States Department of Justice.

(4) Affected public who will be asked to respond, as well as a brief abstract: Primary: Local jail administrators, (one reporter from each of the 3,083 local jail jurisdictions in the United States) responsible for keeping records on inmates will be asked to provide information for the following categories: (a) Between January 1, 2000, and December 31, 2000, the number of deaths of persons under the supervision of their jail jurisdiction; and (b) As of January 1, 2000, and December 31, 2000, the number of male and female inmates under their jail jurisdiction; and (c) Between January 1, 2000, and December 31, 2000, the number of male and female inmates admitted to their jail jurisdiction; and (d) Between January 1, 2000, and December 31, 2000, the average daily population of all jail confinement facilities with their jurisdiction; and (e) The name, date of birth, gender, race/ethnic origin, and date of death for each inmate who died in their jail jurisdiction between January 1, 2000, and December 31, 2000; and (f) The admission date, legal status, and current offenses for each inmate who died in their jail jurisdiction between January 1, 2000, and December 31, 2000; and (g) The location and cause of each inmate death that took place in their jail jurisdiction between January 1, 2000, and December 31, 2000; and (h) Whether or not an autopsy was conducted by a medical examiner or coroner to determine the cause of each inmate death that took place in their jail jurisdiction between January 1, 2000, and December 31, 2000; and (i) In cases where the cause of death was illness/natural causes (including AIDS), whether or not the cause of each inmate death was the result of a pre-existing medical condition, and whether or not the inmate had been receiving treatment for that medical condition; and (j) In cases where the cause of death was accidental injury, suicide, or homicide, when and where the incident causing the inmate's death took place.

As part of the conference agreement for FY2000 appropriations, the Bureau of Justice Statistics was directed by the U.S. Congress “to implement a voluntary annual reporting system of all deaths occurring in law enforcement custody.” This collection will supplement the data on prison inmate deaths which the Bureau of Justice Statistics already collects as part of the National Prisoners Statistics Program and the National Corrections Reporting Program. The Bureau of Justice Statistics will use this new information to publish an annual report on deaths in custody. The report will be made available to the U.S. Congress, Executive Office of the President, practitioners, researchers, students, the media, and others interested in criminal justice statistics and data.

(5) An estimate of the total number of respondents and the amount of time needed for an average respondent to respond: 3,083 respondents each taking an average 30 minutes to respond.

(6) An estimate of the total public burden (in hours) associated with the collection: 1,541.5 annual burden hours.

If additional information is required, contact: Mr. Robert B. Briggs, Clearance Officer, United States Department of Justice, Information Management and Security Staff, Justice Management Division, Suite 1220, 1331 Pennsylvania Avenue, NW., Washington, DC 20530.

Dated: October 13, 2000.
Robert B. Briggs,
Department Clearance Officer, United States Department of Justice.

[FR Doc. 00-26925 Filed 10-18-00; 8:45 am]

BILLING CODE 4410-18-M